DEPARTMENT OF ENERGY

Federal Energy Regulatory Commission

[Docket No. PR01-11-000]

PanEnergy Louisiana Intrastate, LLC; Notice of Petition for Rate Approval

May 2, 2001.

Take notice that on March 30, 2001, LLC (PanEnergy) filed a Petition for Rate Approval (Petition) pursuant to Section 284.123(b)(2) of the Commission's regulations, 18 CFR 284.123(b)(2). In the Petition, PanEnergy requests the Commission to approve a rate for firm and interruptible transportation service under Section 311(a)(2) of the Natural Gas Policy Act of $0.2071 per MMBtu.

Pursuant to Section 284.123(b)(2)(ii) of the Commission's regulations, if the Commission does not act within 150 days of the Petition's filing date, the rates proposed therein will be deemed to be fair and equitable and not in excess of an amount that interstate pipelines would be permitted to charge for similar services. The Commission may, prior to the expiration of the 150-day period, extend the time for action or institute a proceeding to afford parties an opportunity for written comments and for the oral presentation of views, data and arguments.

Any person desiring to participate in the rate proceeding must file a motion to intervene with the Federal Energy Regulatory Commission, 888 First Street, NE., Washington DC 20426 in accordance with Sections 385.211 and 385.214 of the Commission's Rules of Practice and Procedures. All motions must be filed with the Secretary of the Commission on or before May 17, 2001. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-11486 Filed 5-7-01; 8:45 am]

BILLING CODE 6717-01-M